DEPARTMENT OF TRANSPORTATION

Federal Aviation Administration

14 CFR Part 39

[Docket No. 2001-NM-283-AD; Amendment 39-13470; AD 2004-03-26]

RIN 2120-AA64

Airworthiness Directives; Dassault Model Falcon 900EX Series Airplanes

AGENCY: Federal Aviation Administration, DOT.

ACTION: Final rule.

SUMMARY: This amendment adopts a new airworthiness directive (AD), applicable to certain Dassault Model Falcon 900EX series airplanes, that requires modification of the front attachment area of the No. 2 engine. This action is necessary to prevent failure of the fail-safe lugs of the hoisting plate of the forward engine mount, and subsequent cracking of the pick-up folded sheet of the pylon forward rib. Such cracking could rupture the mast case box, which could result in loss of the two forward engine mounts and consequent separation of the engine from the airplane. This action is intended to address the identified unsafe condition.

DATES: Effective March 17, 2004.

The incorporation by reference of certain publications listed in the regulations is approved by the Director of the Federal Register as of March 17, 2004.

ADDRESSES: The service information referenced in this AD may be obtained from Dassault Falcon Jet, PO Box 2000, South Hackensack, New Jersey 07606. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Dassault Model Falcon 900EX series airplanes was published in the Federal Register on October 9, 2003 (68 FR 58285). That action proposed to require modification of the front attachment area of the No. 2 engine.

Comment

Interested persons have been afforded an opportunity to participate in the making of this amendment. Due consideration has been given to the single comment received.

Request To Add Revised Service Information

The commenter asks that the proposed AD be changed to cite only Dassault Service Bulletin F900EX-103, Revision 1, dated October 16, 2002, as the appropriate source of service information for accomplishment of the modification. (The original issue of the service bulletin was cited as the appropriate source of service information for accomplishment of the modification in the proposed AD.) The commenter states that there are some build differences on airplanes with serial numbers 1 through 4 inclusive, that do not exist on other airplanes specified in the applicability of the original issue of the service bulletin; therefore, the original issue cannot be used for airplanes with those serial numbers. Revision 1 describes additional procedures for the modification of airplanes with serial numbers 1 through 4. The commenter adds that the Direction Générale de l'Aviation Civile, which is the airworthiness authority for France, has been informed of this change and has agreed not to issue a revision to French airworthiness directive 2001-160-027(B), dated May 2, 2001 (referenced in the proposed AD), due to inclusion of the phrase “original issue or further approved revisions” in that airworthiness directive.

The FAA agrees with the commenter. We have added Revision 1 of the service bulletin, and we have changed all service bulletin references in this final rule to specify Revision 1.

Conclusion

After careful review of the available data, including the comment noted above, we have determined that air safety and the public interest require the adoption of the rule with the change described previously. We have determined that this change will neither increase the economic burden on any operator nor increase the scope of the AD.

Cost Impact

We estimate that 36 airplanes of U.S. registry will be affected by this AD, that it will take about 85 work hours per airplane to accomplish the modification, and that the average labor rate is $65 per work hour. Required parts will cost about $14,479 per airplane. Based on these figures, the cost impact of the modification on U.S. operators is estimated to be $720,144, or $20,004 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-26 Dassault Aviation: Amendment 39-13470. Docket 2001-NM-283-AD.

Applicability: Model Falcon 900EX series airplanes, serial numbers 1 through 60 inclusive; certificated in any category; except those on which Dassault Modifications M2754 and M2925, identified in Dassault Service Bulletin F900EX-103, Revision 1, dated October 16, 2002, have been accomplished.

Compliance: Required as indicated, unless accomplished previously.

To prevent failure of the fail-safe lugs of the forward engine mount, and consequent cracking of the pick-up folded sheet of the pylon forward rib, which could rupture the mast case box and result in loss of the two forward engine mounts and consequent separation of the engine from the airplane, accomplish the following:

Modification

(a) Prior to the accumulation of 3,750 flight cycles since the date of issuance of the original Airworthiness Certificate or the date of issuance of the Export Certificate of Airworthiness, whichever occurs first: Modify the front attachment area of the No. 2 engine by doing all the actions per Paragraphs 2.A. through 2.D. of the Accomplishment Instructions of Dassault Service Bulletin F900EX-103, Revision 1, dated October 16, 2002.

Alternative Methods of Compliance

(b) In accordance with 14 CFR 39.19, the Manager, International Branch, ANM-116, FAA, Transport Airplane Directorate, is authorized to approve alternative methods of compliance for this AD.

Incorporation by Reference

(c) The actions shall be done in accordance with Dassault Service Bulletin F900EX-103, Revision 1, dated October 16, 2002. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 1: The subject of this AD is addressed in French airworthiness directive 2001-160-027(B), dated May 2, 2001.

Effective Date

(d) This amendment becomes effective on March 17, 2004.

Issued in Renton, Washington, on February 3, 2004.
Ali Bahrami,
Acting Manager, Transport Airplane Directorate, Aircraft Certification Service.

[FR Doc. 04-2684 Filed 2-10-04; 8:45 am]

BILLING CODE 4910-13-P